DEPARTMENT OF LABOR

Employment and Training Administration

Indian and Native American Employment and Training Programs; Solicitation for Grant Applications and Announcement of Competition Waivers for Program Years 2006 and 2007

Announcement Type: New. Notice of Solicitation for Grant Applications and Announcement of Competition Waivers.

Funding Opportunity Number: SGA/ DFA-PY-05-05.

Catalog of Federal Domestic Assistance (CFDA) Number: 17.265

Key Dates: The closing date for receipt of applications under this announcement is by 5 p.m. (Eastern Time), 30 days after the date of publication in the Federal Register. Application and submission information is explained in detail in Part IV of this Solicitation for Grant Applications (SGA).

Summary: The U.S. Department of Labor (DOL), Employment and Training Administration (ETA), announces the availability of competitive grant funds to provide employment and training services to Indians, Alaska Natives and Native Hawaiians under section 166 of the Workforce Investment Act (WIA) for Program Years (PY) 2006, and 2007 (July 1, 2006 through June 30, 2008). Competition for section 166 grants is conducted every two years, except that the Secretary may waive the requirement for such competition for current grantees that have performed satisfactorily.

Through this Notice, the Department announces that the Secretary has waived competition for this solicitation for grantees that have performed satisfactorily under their current grant. (See Attachment A for a list of grantees receiving waivers.) To apply for an award of funds for PY 2006 and 2007 for their current service area, current grantees receiving a waiver of competition only need to submit a cover letter, signed by an authorized signatory, and a Standard Form (SF) 424 Application for Federal Assistance (Version 02), which will serve as the grantee's “Notice of Intent” (NOI) to continue providing WIA section 166 services. Submittals on http://www.grants.gov, with authorized electronic signatures, will also be accepted in place of the hard copy cover letter and SF 424.

The Secretary has also waived competition for this solicitation for those grantees operating a WIA section 166 training and employment program as part of a Pub. L. 102-477 Demonstration Project, which allows federally-recognized tribes, or entities serving federally-recognized tribes, to consolidate formula-funded employment, training, and related dollars under a single service plan administered by the Department of the Interior. (See Attachment B for a list of Pub. L. 102-477 grantees.) Grantees operating a WIA section 166 grant as part of a Public Law 102-477 Demonstration Project will need to submit a cover letter, signed by an authorized signatory, and a Standard Form (SF) 424 Application for Federal Assistance (Version 02), which will serve as the grantee's “Notice of Intent” (NOI) to continue providing WIA section 166 services to the address provided in section IV (3) of this notice. Submittals on http://www.grants.gov, with authorized electronic signatures, will also be accepted in place of the hard copy cover letter and SF 424.

Competition for funding under this solicitation is limited to the geographic areas listed in Attachment C of this SGA. Any eligible entity, including new applicants and current grant recipients serving other geographic areas, may apply for funding to serve these areas. Current grantees serving these geographic areas are subject to competition and must submit a grant application as specified in Part IV (2) in order to compete for their existing service area.

Important: Organizations seeking WIA section 166 funding for this period must comply with the provisions of this SGA. Late applications from current grantees or new applicants will not be considered for those geographic service areas that are in competition (as listed in Attachment C).

A list of current grantees and the geographic areas they serve can be found at: http://www.doleta.gov/dinap/cfml/CensusData.cfm.

Addresses: Applications may be submitted electronically on http://www.grants.gov or in hard-copy via mail or hand delivery. Mailed applications must be sent to: U.S. Department of Labor, ETA, Room N-4617, 200 Constitution Ave., NW., Washington, DC 20210, Attention: James Stockton. Applicants are advised that mail delivery in the Washington, DC area may be delayed due to mail decontamination procedures. Hand delivered proposals will be received at the above address. Applications submitted via facsimile (fax) machine will not be accepted.

Supplementary Information: This solicitation consists of eight parts and three attachments:

• Part I provides the funding description and background information.

• Part II describes the size and nature of the anticipated awards.

• Part III describes eligible applicants and other grant specifications.

• Part IV provides information on the application and submission process.

• Part V describes the criteria against which applications will be reviewed and evaluated, and explains the proposal review process.

• Part VI provides award administration information.

• Part VII contains DOL agency contact information.

• Part VIII lists additional resources of interest to applicants.

• Attachment A lists grantees receiving waivers. As indicated, this list also includes grantees which will receive conditional designation with conditions to be specified by the Grant Officer and reflected in the grant award.

• Attachment B lists Public Law 102-477 grantees receiving waivers.

• Attachment C lists grantees that did not receive a waiver and areas/counties open for competition and associated funding amounts.

I. Funding Opportunity Description

Section 166 of the Workforce Investment Act (WIA) makes funds available to Indian tribes, tribal organizations, Alaska Native entities, Indian-controlled organizations serving Indians, and Native Hawaiian organizations to support employment and training activities in order to: (A) Develop more fully the academic, occupational, and literacy skills of such individuals, (B) make such individuals more competitive in the workforce, and (C) promote the economic and social development of Indian, Alaska Native, and Native Hawaiian communities in accordance with the goals and values of such communities. Requirements for WIA section 166 programs are set forth in WIA section 166 (29 U.S.C. 2911) and its regulations, found at 20 CFR part 668, published at 65 FR 49294, 49435 (Aug. 11, 2000).

1. Background on the Workforce Investment Act (WIA), Section 166 Grants (Also Known as Indian and Native American Grants or INA Grants)

The U.S. Department of Labor, Employment & Training Administration has awarded employment and training grants to Indian tribes, urban Indian centers, and other non-profit organizations serving Indians, Alaska Natives, and Native Hawaiians for over 30 years. These grants have been authorized under various forms of legislation such as the Job Training Partnership Act (JTPA) enacted in 1982, and its predecessor, the Comprehensive Employment and Training Act (CETA) enacted in 1973. While WIA maintains most of the core program values that existed in previous laws, it also establishes key reforms that are applicable to Native American programs.

One of the key reforms under WIA is the emphasis on the coordination of federally-funded job training programs. The mechanism used to coordinate these various job training programs is the One-Stop delivery system. Under WIA, the Native American section 166 program is a required partner in the One-Stop delivery system. As such, grantees must execute a Memorandum of Understanding (MOU) with the local workforce investment board that identifies the role of the INA grantee in the One-Stop center. It is important that section 166 grantees coordinate with their local One-Stop service provider(s).

Applicants to this SGA should also be aware of ETA's move towards results-oriented employment and training programs. In order to better measure performance, ETA has established common measures for all ETA programs. Listed below are the adult performance outcomes that section 166 grants are measured by:

• Entered Employment

• Employment Retention

• Earnings Increase

Applicants which receive supplemental youth funds will be measured by the following criteria:

• Placement in Employment or Education

• Attainment of a Degree or Certificate

• Literacy and Numeracy gains

Additional information on performance measures can be found in ETA's Training and Employment Guidance Letter (TEGL) 28-04 (April 15, 2005), which can be found at: http://wdr.doleta.gov/directives/attach/TEGL28-04.pdf and at http://www.doleta.gov/performance/guidance/Adminstrators_Mtg_QA_for_web_1-12-04.cfm#Common

2. Waivers

As indicated in the Summary above, the Secretary has the authority to grant waivers from competition to grantees that have performed satisfactorily under their current grant. Incumbent grantees that have performed satisfactorily, both programmatically and administratively, under the last two grant cycles will receive a waiver from competition for the PY 2006-2007, designation period funded under this notice.

However, if DOL has found that the grantee serving a geographic area demonstrated substantial and persistent failures of performance, that geographic area was placed in competition, UNLESS the grantee is serving a geographic area over which it has legal jurisdiction, as will be discussed in greater detail in subsection (b) titled “Conditional Designation”.

(a) Criteria for Determining Substantial and Persistent Failures of Performance

As a baseline criteria for determining substantial and persistent failures of performance, the Department has applied: (1) Program performance measures, (2) the responsibility review criteria at 20 CFR 667.170, and, (3) the factors related to ability to administer funds in 20 CFR 668.220 and 668.230. The seriousness of the factors supporting a finding of denying a competition waiver is less than that required to support a finding of non-responsibility.

(b) Conditional Designation

The determination regarding whether to deny a waiver required some adjustment with respect to those grantees with substantial and persistent failures of performance that are Federally recognized Indian tribes or Alaska Native entities serving geographic areas over which they have legal jurisdiction and a priority for designation under 20 CFR 668.210(a). In these situations, the Department determined that it will provide a waiver and a conditional designation to such grantees. This treatment is in recognition that the Section 166 regulations provide a priority for designation for Federally recognized Indian tribes and Alaska Native entities (or consortia that include such a tribe or Alaska Native entity) regarding geographic areas and/or populations over which they have legal jurisdiction,

The conditions on the designation will be specified by the Grant Officer in the grant award. Conditional designation means that such grantees will be required to follow specific instructions by the Grant Officer in regards to their substantial and persistent failures of performance. The designation of the grantee is limited to the geographic area over which it has legal jurisdiction as defined by 20 CFR 668.210(a). Those geographic areas which the grantee serves but lacks legal jurisdiction are subject to competition.

(c) Description of Attachments

Attachment A provides a list of current grantees receiving competition waivers (including those tribes and Alaska Native entities that will receive conditional designations). Attachment B is a list of P.L. 102-477 grantees receiving waivers. Attachment C is a list of current grantees not receiving waivers and associated geographic areas open to competitive selection. If a grantee received only conditional designation and waiver from competition, the grantee's legal jurisdiction is not listed on Attachment C.

3. Procedures after Designation

Being designated as a section 166 service provider, either under a waiver or through competition, will not automatically result in an immediate award of grant funds. Entities that successfully complete the designation process, including winning any competition(s) for service area(s) that may occur as defined in this SGA, must prepare a two-year Comprehensive Services Program (CSP) Plan that must be approved by DOL. Instructions for preparation of the CSP Plan will be issued to all designated service providers under separate guidance.

After a section 166 designee's CSP Plan is approved by DOL, a grant agreement (“Notice of Obligation” or NOO) must be executed in accordance with 20 CFR 668.292. Each NOO will reflect the amount of section 166 funds awarded as determined in accordance with 20 CFR 668.296 and 668.440.

II. Award Information

Type of assistance instrument: Funds will be awarded under this solicitation through two-year grants. Exact award amounts will be determined by DOL after designation of service areas and service providers, and once funding appropriations for the grant periods have been made by Congress. Waivers of competition have been made for the PY 06-07 grant cycle, as explained in Section I(2) of this SGA.

The section 166 program is a “formula funded” program that receives an annual appropriation of not less than $55,000,000 authorized under Section 174(a) of WIA. For PY2004-2005, this amount was distributed throughout the United States to 182 grantees. The amounts awarded under the CSP (Adult) in PY 2005 ranged from $13,898 to $6,011,664. The median grant award amount was $171,735. Adult award amounts for all section 166 grantees can be found at: http://www.doleta.gov/dinap/pdf/CSPholdHarmless.pdf.

Adult funding: The amount of funding a grantee will receive for adult services is based on a formula specified at 20 CFR 668.296(b). The CSP (Adult) Funding Formula is as follows:

(1) One-quarter of the funds will be allocated based on the percentage of unemployed Native Americans living in the grantee's designated INA service area (as defined below) compared to the total number of unemployed Native Americans living in the United States.

(2) Three-quarters of the funds will be allocated based on the percentage of Native Americans living in poverty in the grantee's designated INA service area compared to the total number of Native Americans living in poverty in the United States.

A grantee's designated INA service area is the area identified by the DOL Grant Officer in the grant award in which the grant applicant will operate an employment and training program (usually a county or reservation area). Grant applicants must specify the geographic area(s) they wish to serve in their grant application. The ETA uses counties and tribal reservations, Alaska Native villages and Alaska Native regional corporations to identify areas of service. The ETA used data from the 2000 Census to determine the number of Native Americans in poverty and unemployed for each service area. Attachment C identifies the services areas in competition for PY 2006-2007, along with the number of Native Americans in each geographic area who are unemployed, in poverty, or in the youth age bracket and the estimated funding associated with each service area.

Youth funding: Grant applicants serving reservation areas and grantees serving any area in the State of Oklahoma also receive Supplemental Youth Services (SYS) program funds. Youth funds are appropriated annually as stated in WIA at section 127(b)(1)(C)(i). Annual appropriations for the SYS program have been approximately $15,000,000, which has been awarded to approximately 136 Native American grantees. The amounts awarded under the SYS program in 2005 ranged from $1,315 to $2,706,072. The median grant award amount was $40,241. Youth award amounts for all section 166 grantees can be found at: http://www.doleta.gov/dinap/pdf/SYSPholdHarmless.pdf.

The amount of youth funding a grantee will receive is based on a formula specified at 20 CFR 668.440. The SYS Funding Formula is as follows: SYS funding will be allocated to grantees serving reservations (or areas in the State of Oklahoma) based on the percentage of Native American Youth between the ages of 14 and 21 living in poverty in the grantee's designated INA service area compared to the number of Native American youth between the ages of 14 and 21 living in poverty on all reservation areas and the State of Oklahoma.

Award amounts available for areas in competition: Estimated funds to be awarded for those areas in competition are included in Attachment C.

III. Eligibility Information

1. Eligible Applicants

To be eligible for an award of funds under WIA section 166 and this solicitation, an entity must meet all eligibility requirements of WIA section 166 and 20 CFR 668.200, as well as the application and designation requirements found at 20 CFR part 668, subpart B. The Federal regulations can be downloaded from the Internet at: http://www.doleta.gov/dinap/pdf/wiafinalregsall.pdf. Potential applicants are expected to thoroughly review and comply with the statute and regulations.

Organizations that are potentially eligible to apply for WIA section 166 funds under this solicitation are:

• Federally recognized Indian Tribes

• Tribal organizations as defined in 25 U.S.C. 450b

• Alaskan Native-controlled organizations representing regional or village areas, as defined in the Alaska Native Claims Settlement Act

• Native Hawaiian-controlled entities

• Native American-controlled organizations serving Indians, including community and faith-based organizations (see definition of Native American-controlled organizations described below)

• State-recognized tribal organizations serving individuals who were eligible to participate under JTPA section 401, as of August 6, 1998

• Consortia of eligible entities which individually meet the legal requirements for a consortium (see definition of a consortium described below). Additionally, to be eligible, entities must have a legal status as a government, an agency of a government, a private non-profit corporation (e.g., incorporated under IRS section 501(c)(3), or a consortium as defined below. Applicants seeking to provide services in a geographic service area for the first time must satisfy the funding threshold identified below.

Definition of Native American-Controlled Organization: A Native American-controlled organization is defined as any organization for which more than 50 percent of the governing board members are Indians or Native Americans. Such an organization can be a tribal government, Native Alaska or Native Hawaiian entity, consortium, or public or private non-profit agency. For the purpose of this award application, the governing board must have decision-making authority for the WIA section 166 program.

Eligible consortium: Each member of a consortium must individually meet the requirement of an eligible applicant, as defined in 20 CFR 668.200 (c), (that is, be a federally recognized tribe, or tribal organization, or Alaska Native-controlled organization, etc.) and at least one of the consortia members must have a legal status as a government, an agency of a government or a private non-profit corporation. Additionally, the consortium must meet the following conditions: (1) Have members in close proximity to one another but not necessarily in the same State; (2) have an administrative unit legally authorized to run the program and to commit the other members to contracts, grants, and other legally binding agreements; and (3) be jointly and individually responsible for the actions and obligations of the consortium, including debts.

Funding Thresholds: To be eligible for funding, a new (non-incumbent) entity must request one or more geographic service areas in competition that contain an eligible population of sufficient size to result in a funding level of at least $100,000 under the combined adult and youth funding formulas. See § 668.200(a)(3). Current section 166 grantees that do not meet the $100,000 threshold are exempt from this requirement. Federally-recognized tribes currently receiving, or applying for WIA section 166 funds under Public Law 102-477 only need to meet a $20,000 threshold, as long as the combined funding under Public Law 102-477 is at least $100,000. Attachment C provides funding estimates for the geographic areas in competition.

2. Cost Sharing or Matching

The section 166 program does not require grantees to share costs or provide matching funds.

3. Other Eligibility Criteria

In accordance with 29 CFR part 98, entities that are debarred or suspended shall be excluded from Federal financial assistance and are ineligible to receive a section 166 grant.

Additionally the applicant must have the ability to administer section 166 funds. The ability to administer section 166 funds is determined in accordance with 20 CFR 668.220 and 668.230.

Limitations on those served under a WIA section 166 grant are identified in Part IV (5) of this SGA, “Funding Restrictions.”

Applicants should be aware that there are specific program regulations and OMB circulars that grantees must adhere to upon receiving a section 166 grant. See Part IV (2) of this SGA below.

IV. Application and Submission Information

1. Address to Request Application Package

This SGA contains all of the information needed to apply for grant funding.

2. Content and Form of Application Submission

Information that must be submitted under this SGA will depend on the applicant's status with DOL/ETA. For the purposes of this SGA, grant applicants are divided into four categories, each of which is addressed separately below: (a) Current grantees receiving a waiver from competition for their service area, including those with conditional designation (see listing in Attachment A); (b) current grantees operating a WIA section 166 grant under Public Law 102-477 (see listing of 102-477 grantees in Attachment B); (c) current grantees not receiving waivers from competition (see listing in Attachment C); and (d) new applicants (non-incumbent) for areas in competition.

a. Current grantees receiving a waiver from competition. Current grantees receiving a waiver of competition, as listed in Attachment A of this SGA, only need to submit the following documents:

• A brief cover letter informing ETA of the organization's interest in applying for WIA section 166 funds, signed by an authorized signatory official.

• A Standard Form (SF) 424 (Version 02). (See information regarding the completion of the SF-424 below.)

If a current grantee with a competition waiver for an existing service area wishes to apply for additional geographic service areas, the additional service area(s) must be stated in item #14 of the SF-424 and the procedures in Section V of this SGA must be followed to apply for grant funding for the additional area(s). A current grantee that has received a waiver from competition does not jeopardize its existing service area by applying for additional service areas nor does it receive any preference for the additional area.

b. Federally recognized tribes applying for section 166 funds under Public Law 102-477. Public Law 102-477 authorizes WIA section 166 funds to be awarded to federally recognized tribes under a “consolidation” plan administered through the U.S. Department of Interior. Public Law 102-477 allows federally-recognized tribes to consolidate formula-funded employment and training related funds under a single, consolidated plan. Grantees operating a WIA section 166 grant under Public Law 102-477, as listed in Attachment B of this SGA, only need to submit the following documents:

• A brief cover letter informing ETA of the organization's interest in applying for WIA section 166 funds, signed by an authorized signatory official.

• A Standard Form (SF) 424 (Version 02). (See information regarding the completion of the SF-424 below.)

These documents indicate their intent to continue receiving section 166 funds. Tribes wishing to apply for WIA section 166 funds under Public Law 102-477 should not apply under this solicitation. Instead, tribes must submit a 477 plan to the U.S. Department of Interior.

New tribal applicants should be aware that in order for ETA to timely obligate FY 2007, funds under Public Law 102-477, a tribe's 477 plan must be received by the Department of Interior no later than April 1, 2006, and approved no later than June 30, 2006. For further information on applying for WIA section 166 funds under Public Law 102-477, please contact Athena R. Brown, Chief, DINAP, at (202) 693-3737 (this is not a toll-free number).

c. Current grantees not receiving a waiver from competition. Current grantees not receiving a waiver from competition, as listed in Attachment C of this SGA, only need to submit the following documents to initially express interest in continuing to serve the geographic service area placed in competition:

• A brief cover letter informing the ETA of the organization's interest in applying for WIA section 166 funds, signed by an authorized signatory official.

• A Standard Form (SF) 4249 (Version 02). (See information regarding the completion of the SF 424 below.)

While these are the only documents initially required, grantees not receiving a waiver should be aware that other entities may apply for their geographic service area(s). In cases where a new applicant (or applicants) applies for a current grantee's service area (see Attachment C), the Grant Officer will notify the applicant that there is competition for that service area no later than 15 days after the SGA deadline date. Upon such notification, the applicant will be given 30 days from the date of the notification to submit a competitive grant proposal that responds to the evaluation criteria described in Part V(1) and that complies with requirements for new applicants under Part IV(2)(c) below (except that current grantees need not provide identification or proof of legal status, unless it has changed since the entity's current grant award). Current grantees not receiving a waiver may want to prepare a competitive grant proposal in advance of the notice of competition as some portions (such as letters of support) may take longer than the 15 days to prepare.

If there is no competition for a service area currently served by a grantee that did not receive a waiver, the Grant Officer, in consultation with DINAP and consistent with 20 CFR 668.210, 668.250, and 668.280, will make a decision to continue funding to the current grantee, or to designate the service area to another WIA section 166 grantee that is willing to serve the area, or to transfer funding into the formula to be distributed among all WIA section 166 grantees.

d. New applicants for areas in competition. New applicants must submit a complete grant proposal that addresses each of the evaluation criteria indicated in Part V(1) of this SGA. The proposal may not exceed twenty (20) double-spaced, single-sided, 8.5 inch × 11 inch pages with 12 point text font and one inch margins. In addition, in attachments which may not exceed 10 pages, the applicant may provide resumes, a list of staff positions to be funded by the grant, letters of support, statistical information, and other related material.

The proposal must include within the 20-page limit:

• A brief cover letter informing the ETA of the organization's interest in applying for WIA section 166 funds, signed by an authorized signatory official.

• A Standard Form (SF) 424 (Version 02) (see information regarding the completion of the SF-424 below).

• Identification of the applicant's legal status, including articles of incorporation for non-profit organizations or consortium agreement (if applicable).

• A specific description of the geographic area (i.e., county or reservation) being applied for. Only areas placed in competition and identified in Attachment C of this SGA can be applied for. New applicants should identify the area(s) they wish to serve in item #14 of the SF-424. Applicants may include service areas in an attachment to the SF-424 if additional space is needed.

Completing the Standard Form (SF) 424 (Version 02)

The SF-424 is available for downloading at http://www.grants.gov. The SF-424 must clearly identify the applicant and be signed by an individual with authority to enter into a grant agreement. Upon confirmation of an award, the individual signing the SF-424 on behalf of the applicant shall be considered the representative of the applicant.

While the SF-424 requires general information about an applicant, applicants may not be familiar with some required items, or the information may not be readily available. Explanations of these items are provided below:

• Item #8(c)—Organization DUNS: All applicants for Federal funds are required to have a Dun and Bradstreet (DUNS) number. The DUNS number is a nine-digit identification number that uniquely identifies business entities. Obtaining a DUNS number is easy and there is no charge. To obtain a DUNS number access this website: http://www.dunandbradstreet.com or call 1-866-705-5711. Many organizations already have a DUNS number. Applicants should verify that their organization does not already have a DUNS number before obtaining a new number.

• Item #11—Catalog of Federal Domestic Assistance Number (CFDA): The CFDA number for the WIA section 166 program is 17.265. This number must be provided in item #11.

• Item #14—Areas Affected by Project: Applicants must include the specific geographic areas they wish to serve (i.e., counties, reservations, etc.). Current grantees that wish to serve their existing service area and are not applying for additional service areas only need to indicate “Existing Service Area” in this section. Current grantees and new applicants requesting service areas that are open to competition as indicated in Attachment C of this SGA must include the State, County, and Reservation service area in line item 14. Applicants may include service areas in an attachment to the SF-424 if additional space is needed.

• Item #17—Proposed Project Start Date and Ending Date: The WIA section 166 program is funded for a two-year period and is based on a program year period of July 1 through June 30. The proposed start date under this solicitation is July 1, 2006, and the proposed end date is June 30, 2008.

• Item #18—Estimated Funding: The WIA section 166 program is a formula funded program based on population characteristics of geographic service areas assigned to grantees and such variables as the annual congressional appropriations. Since WIA section 166 funding awards are calculated by the DOL/ETA, it is not necessary for applicants to complete Item #18. However, current grantees can view their estimated funding which has been calculated by the DOL/ETA through 2010, at this website: http://www.doleta.gov/dinap/cfml/CensusData.cfm. Please note that the funding amounts located at the Web sites above are estimates based on the Fiscal Year 2004, congressional appropriation. Funding estimates for those areas in competition are included in Attachment C.

• Item #19—Is application Subject to Review by State Under Executive Order 12372 process? The WIA section 166 program is not subject to Executive Order 12372.

All applicants (except for current Pub. L. 102-477 grantees) may submit their applications on http://www.grants.gov with authorized electronic signatures. This will be accepted in place of the hard copy cover letter and SF-424. New applicants must submit hard copies of other required documents.

3. Submission Date, Times, and Addresses

All applications may be submitted electronically on http://www.grants.gov or in hard-copy via mail or hand delivery. Applicants submitting proposals in hard-copy must submit an original signed application, SF-424 (all new applicants must also submit a SF-424A, Budget Form) and one (1) “copy-ready” version. Do not bind, staple, or insert protruding tabs.

The closing date for receipt of applications under this announcement is by 5 p.m. (eastern time), 30 days after the date of publication. Applications must be received at the address below no later than 5 p.m. (eastern time). Applications sent by e-mail, telegram, or facsimile (fax) will not be accepted. Applications that do not meet the conditions set forth in this notice will not be considered. No exceptions to the mailing and delivery requirements set forth in this notice will be granted.

Mailed applications must be addressed to the U.S. Department of Labor, Employment and Training Administration, Division of Federal Assistance, Attention: James Stockton, Grant Officer, Reference SGA/DFA-PY-05-05, 200 Constitution Avenue, NW., Room N-4716, Washington, DC 20210. Applicants are advised that mail delivery in the Washington area may be delayed due to mail decontamination procedures. Hand delivered proposals will be received at the above address. All overnight mail will be considered to be hand-delivered and must be received at the designated place by the specified closing date and time. Proposals submitted on diskette or CD are not encouraged as decontamination procedures may cause damage.

For those applying online through http://www.grants.gov, it is strongly recommended that applicants immediately initiate and complete the “Get Started” registration steps at http://www.grants.gov/GetStarted. These steps may take multiple days to complete, and this time should be factored into plans for electronic application submission in order to avoid facing unexpected delays that could result in the rejection of an application. If submitting electronically through http://www.grants.gov, it would be appreciated if the application submitted is saved as .doc, .pdf, or .txt files. Applications submitted online, with authorized electronic signatures, are acceptable, in lieu of the brief cover letter with signature.

Late Applications: Any application received after the exact date and time specified for receipt at the office designated in this notice will not be considered, unless it is received before awards are made and it (a) was sent by U.S. Postal Service registered or certified mail not later than the fifth calendar day before the date specified for receipt of applications (e.g., an application received after the deadline, but having a U.S. postmark showing an early submittal will not be considered late if received before awards are made), or (b) was sent by U.S. Postal Service Express Mail or http://www.grants.gov to the addressee not later than 5 p.m. at the place of mailing or electronic submission one working day prior to the date specified for receipt of applications. It is highly recommended that online submissions be completed one working day prior to the date specified for receipt of applications to ensure that the applicant still has the option to submit by U.S. Postal Service Express Mail in the event of any electronic submission problems. “Post marked” means a printed, stamped, or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness.

Note: Except as specifically provided in this Notice, DOL/ETA's acceptance of a proposal and an award of Federal funds to sponsor any program(s) does not provide a waiver of any grant requirements and/or procedures. For example, OMB Circulars require that an entity's procurement procedures must ensure that all procurement transactions are conducted, as much as practical, to provide open and free competition. If a proposal identifies a specific entity to provide services, the DOL/ETA's award does not provide the justification or basis to sole source the procurement, i.e., avoid competition, unless the activity is regarded as the primary work of an official partner to the application.

Important: Organizations seeking WIA section 166 funding for this period must comply with the provisions of this SGA. Late applications from current grantees or new applicants will not be considered for those geographic service areas that are in competition (as listed in Attachment C).

4. Intergovernmental Review

This funding opportunity is not subject to Executive Order (EO) 12372 “Intergovernmental Review of Federal Programs.”

5. Funding Restrictions

Allowable costs. Determinations of allowable costs will be made in accordance with the applicable Federal cost principles, e.g., for tribes, OMB Circular A-87, for non-profit organizations, OMB Circular A-122. See 20 CFR 668.810 and 668.840 (incorporating WIA cost rules at 20 CFR 667.200 to 667.220). Disallowed costs are those charges to a grant that the grantor agency or its representative determines not to be allowable in accordance with the applicable Federal Cost Principles or other conditions contained in the grant. The WIA section 166 program limits administrative costs to 15% but may be negotiated up to 20% upon approval from the grantor agency. There are no specific limits on indirect costs; however, since most indirect costs are considered administrative costs, the amount of indirect cost collected, regardless of the approved rate, may be limited by the overall administrative cost limit. WIA funds must not be spent on construction or purchase of facilities or buildings except in specific circumstances specified at section 667.260.

Limitation on the type of individuals served: The regulations at 20 CFR 668.300(a) limit eligibility for WIA section 166 program services to Native Americans as determined by a policy of the Native American grantee, Alaska Natives, and Native Hawaiians. Those receiving services must also, under § 668.300(b), be either low income, unemployed, underemployed as defined in 20 CFR 668.150, a recipient of a bona fide layoff notice which has taken effect in the last six months or will take effect in the following six month period, or employed persons in need of employment and training services to achieve self-sufficiency. Grantees must ensure that all eligible population members have equitable access to employment and training services. See 20 CFR 668.650(a). Priority of services must be given to veterans and spouses of certain veterans in accordance with the provisions of the “Jobs for Veterans Act,” Public Law 107-288. Since all individuals served by the section 166 program must be Native American, Alaska Native, or Native Hawaiian, so must the veterans receiving priority under the “Jobs for Veterans Act” be Native American, Alaska Native, or Native Hawaiian.

V. Application Review Information

1. Evaluation Criteria

The factors listed below will be considered in evaluating the applicants' approach to providing services and their ability to produce the best outcomes for covered individuals residing in the service area.

2. Review and Selection Process

Evaluation criteria | Points
A.i. Previous experience or demonstrated capabilities in successfully operating an employment and training program established for and serving Indians and Native Americans | 20
ii. Previous experience in operating or coordinating with other human resources development programs serving Indians and Native Americans. Applicant should describe other successful Federal, State, or private foundation grants that the applicant has operated in the last two years | 10
iii. Demonstration of coordination and linkages with Indian and non-Indian employment and training resources within the community | 10
B.i. Description of the entity's planning process and demonstration of involvement with the INA community | 20
ii. Approach to providing services, including identification of the training and employment problems and needs in the requested area, and approach to addressing such needs | 10
C.i. Demonstration of involvement with local employers and efforts that have been made to link unemployed Native Americans with employers. Applicant should also describe involvement with local Workforce Investment Boards, or if applicable, youth programs, and/or councils | 10
ii. Applicants should describe efforts that have been made to coordinate their human resource services described under Criteria A(ii) with State Operated One-Step delivery systems | 10
D. Demonstration of support and recognition by the Native American Community and service population, including local tribes and adjacent Indian organizations and the client populations to be served | 10
Maximum Available Points | 100

Overall Review Process. Where two or more entities apply for the same service area that has been placed in competition, DOL's Division of Indian and Native American Programs (DINAP), with the concurrence of the Grant Officer, will conduct an initial review of the applications for compliance with the statute, regulations, and this SGA. The initial review will consider, among other things, timeliness and completeness of submission, applicant eligibility, eligibility of the requested service area, population size, and funding thresholds as described in Part III (1) of this SGA. Applications that do not satisfy these conditions will not be considered.

The review will also consider any designation priority, as described in the next paragraph, and compliance with financial responsibility criteria, in accordance with 20 CFR 668.220 and 668.230, to ensure that applicants are capable of properly handling and accounting for Federal funds. Organizations with no prior grant history with the Department, or about whom there are financial or grant management concerns, may be conditionally designated pending an on-site review and/or a six-month assessment of program progress.

The Grant Officer is not required to adhere to the geographical service area requested by an applicant. The Grant Officer may make a designation of all the area requested, or, if acceptable to the applicant, a portion of the area requested or more than the area requested.

Designation Priority. In non-reservation areas placed in competition, consistent with 20 CFR 668.210(c), priority for designation will be given to entities with a Native American-controlled governing body and which are representative of the Native American community or communities that they are applying to serve.

Competitive Selection Procedures. If two or more applicants satisfy the initial review described above, for a geographic area identified in Attachment C that is open to competition under this SGA, then a competitive selection will be made following the procedures in this section and applying the designation priority noted above. When competitive selection is necessary, DINAP will notify each applicant of the competing Notices of Intent no later than 15 days after the application deadline date. Upon notification of competition, current grantees will be given 30 days from the date of notification to submit a complete proposal, as specified in Part IV (2)(c).

Where a competitive evaluation is required, the Grant Officer will use a formal panel review process to score proposals and any supporting attachments against the evaluation criteria listed in Part V (1). The review panel will include individuals with knowledge of or expertise in programs dealing with Indians and Native Americans. The purpose of the panel is to review and evaluate an organization's potential, based on its application, to provide services to a specific Native American community, and submit recommendations to the Grant Officer.

It is DOL's policy that no information affecting the panel review process will be solicited or accepted after the deadlines for receipt of applications set forth in this SGA. All submitted information must be in writing. This policy does not preclude the Grant Officer from requesting, or considering, additional information independent of the panel review process. During the review, the panel will not give weight to undocumented assertions. Any information must be supported by adequate and verifiable documentation, e.g., supporting references must contain the name of the contact person, an address, and telephone number. Panel ratings and recommendations are advisory to the Grant Officer.

Determination of Designation-Scoring. The Grant Officer will make the final determination of section 166 designees and of the geographic service area for which each designation is made. The Grant Officer will select the entity that demonstrates the ability to produce the best outcomes for its customers, based on all available evidence and in consideration of any designation priorities as described in above. In addition to considering the review panel's rating in those instances in which a panel is convened, the Grant Officer may consider any other available information regarding the applicants' financial and administrative capability, operational capability, and responsibility in order to make funding determinations that are advantageous to the government.

The Grant Officer need not designate an entity for every geographic area. See 20 CFR 668.294. If there are service areas in competition for which no entity submitted a complete application or for which no entity achieved a score of at least 70, the Grant Officer may either designate no service provider or may designate an entity based on demonstrated capability to provide the best services to the client population. DOL reserves the rights to select applicants with scores lower than 70 or lower than competing applications if such selection would, in DOL's judgment, result in the most effective and appropriate combination of services to the client population, funding, and costs.

An applicant that does not receive WIA 166 funding, in whole or in part, as a result of this process, will be afforded the opportunity to appeal the Grant Officer's decision as provided at 20 CFR 668.270.

3. Anticipated Announcement and Award Dates

If possible, designation decisions will be made by March 1, 2006.

VI. Award Administration Information

1. Award Notices

The Grant Officer, Mr. James Stockton, will notify applicants of the results of their application as follows:

Designation Award Letter. The designation award letter signed by the Grant Officer will serve as official notice that the applicant has been awarded WIA section 166 funding. The designation award letter will include the geographic service area for which the designation is made.

Conditional Designation Award Letter. Conditional award designations will include identification of the geographic service area, the nature of the conditions, and the actions required for the applicant to be removed from conditional award status and the time frame in which such actions must be accomplished.

Non-Designation Award Letter. Any organization not receiving a designated award, in whole or in part, for a requested geographic service area that is in competition (as identified in Attachment C) will be notified formally of the non-award designation.

Notification by a person or entity, other than the Grant Officer that an applicant has been awarded WIA section 166 funds is not valid.

2. Administrative and National Policy Requirements

Applicants that are awarded WIA section 166 funds and become a Grantee of the ETA must comply with the provisions of WIA and its regulations. Particular attention should be given to part 668 of Title 20 of the Code of Federal Regulations (published in the Federal Register August 11, 2000), which focuses specifically on programs for Indians and Native Americans under WIA. In addition, all grants will be subject to the following administrative standards and provisions, as applicable to the particular grantee:

• 20 CFR part 667—Administrative provisions under Title I of WIA

• 29 CFR part 2, subpart D—Equal Treatment in Department of Labor Programs for Religious Organizations; Protection of Religious Liberty of Department of Labor Social Service Providers and Beneficiaries

• 29 CFR parts 30, 31, 32, 33, 35 and 36—Equal Employment Opportunity in Apprenticeship and Training; Nondiscrimination in Federally Assisted Programs of the Department of Labor—Effectuation of Title VI of the Civil Rights Act of 1964; Nondiscrimination on the Basis of Handicap in Programs or Activities Conducted by the Department of Labor; Nondiscrimination on the Basis of Age in Programs or Activities Receiving Federal Financial Assistance from the Department of Labor; and Nondiscrimination on the Basis of Sex in Education Programs Receiving or Benefiting from Federal Financial Assistance

• 29 CFR part 37—Implementation of the Nondiscrimination and Equal Opportunity Provisions of the Workforce Investment Act of 1998 (WIA)

• 29 CFR part 93—Lobbying

• 29 CFR part 95—Uniform Administrative Requirements for Grants and Agreements with Institutions of Higher Education, Hospitals, and Other Non-Profit Organizations, and with Commercial Organizations

• 29 CFR part 96—Federal Standards for Audit of Federally Funded Grants, Contracts, and Agreements

• 29 CFR part 97 Uniform Administrative Requirements for Grants and Cooperative Agreements to State and Local Governments

• 29 CFR part 98—Government-wide Debarment and Suspension (Non-Procurement) and Government-wide Requirements for Drug-Free Workplace (Grants)

• 29 CFR part 99—Audit of States, Local Governments, and Non-Profit Organizations

In accordance with WIA Section 195(6) and 20 CFR 668.630(f), programs funded under this SGA may not involve political activities. Additionally, in accordance with Section 18 of the Lobbying Disclosure Act of 1995, Public Law 104-65 (2 U.S.C. 1611), non-profit entities incorporated under 501(c)(4) that engage in lobbying activities are not eligible to receive Federal funds and grants. Further, this program is subject to the provisions of the “Jobs for Veterans Act,” Public Law 107-288, which provides priority of service to veterans and spouses of certain veterans for the receipt of employment, training, and placement services in any job training program directly funded, in whole or in part, by the Department of Labor. Please note that, to obtain priority of service, a veteran must meet the program's eligibility requirements. ETA Training and Employment Guidance Letter (TEGL) No. 5-03 (September 16, 2003) provides guidance on the scope of the veterans priority statute and its effect on current employment training programs.

3. Reporting

Applicants that are awarded WIA section 166 funds and become a grantee of the ETA will be required to submit reports on financial expenditures, program participation, and participant outcomes on no more than a quarterly basis and in accordance with ETA-specified formats, deadlines, and other requirements. The ETA will be modifying program reports for the WIA section 166 program to reflect OMB Common Measures which will take effect beginning July 1, 2006. Grantee performance will be evaluated against the Common Measures on an annual basis.

VII. Agency Contacts

Questions regarding this SGA can be directed to: Serena Boyd, Grants Management Specialist, e-mail: boyd.serena@dol.gov; (202) 693-3338; FAX: (202) 693-2879 (this is not a toll-free number).

VIII. Other Information

Potential applicants may obtain further information on the WIA section 166 program for employment and training of Native Americans through the website for DOL's Division of Indian and Native American Programs: http://www.doleta.gov/dinap/. Any information submitted in response to this SGA will be subject to the provisions of the Privacy Act and the Freedom of Information Act, as appropriate. The Department of Labor is not obligated to make any awards as a result of this SGA, and only the Grant Officer can bind the Department to the provision of funds under WIA section 166. Unless specifically provided in the grant agreement, DOL's acceptance of a proposal and/or award of Federal funds does not waive any grant requirements and/or procedures.

Signed at Washington, DC, this 6th day of February 2006.
Emily Stover DeRocco,
Assistant Secretary, Employment and Training Administration.

Attachment A—Current Grantees Receiving Waivers

Attachment B—Public Law 102-477 Grantees Receiving Waivers

Attachment C—Current Grantees Not Receiving Waivers and Associated Geographic Areas

Attachment A.—Current Grantees Receiving Waivers
State | Grantee name
Alabama | Inter-Tribal Council of Alabama
Alabama | Poarch Band of Creek Indians
Alaska | Ilisagvik College
Alaska | Kenaitze Indian Tribe
Alaska | Maniilaq Association
Alaska | Tanana Chiefs Conference
Arizona | Affiliation of Arizona Indian Centers, Inc.
Arizona | American Indian Association of Tucson
Arizona | Colorado River Indian Tribes
Arizona | Gila River Indian Community
Arizona | Hopi Tribal Council
Arizona | Hualapai Tribe
Arizona | Inter-Tribal Council of Arizona, Incorporated
Arizona | Native Americans for Community Action, Inc.
Arizona | Navajo Nation
Arizona | Pascua Yaqui Tribe
Arizona | Phoenix Indian Center, Inc.
Arizona | Quechan Indian Tribe
Arizona | Salt River Pima-Maricopa Indian Community
Arizona | San Carlos Apache Tribe
Arizona | Tohono O odham Nation
Arizona* | White Mountain Apache Tribe
Arkansas | American Indian Center of Arkansas, Inc.
California | California Indian Manpower Consortium
California | Candelaria American Indian Council
California | Indian Human Resources Center
California | Northern California Indian Development Council, Inc.
California | Southern California Indian Center, Inc.
California | Tule River Tribal Council
California | United Indian Nations, Inc.
California | Ya-Ka-Ama Indian Education and Development, Inc.
Colorado | Southern Ute Indian Tribe
Colorado | Ute Mountain Ute Tribe
Delaware | Nanticoke Indian Association, Inc.
Florida | Florida Governors Council on Indian Affairs, Inc.
Florida | Miccosukee Tribe of Indians of Florida
Hawaii | Alu Like, Inc.
Indiana | American Indian Center of Indiana, Inc.
Kansas | United Tribes of Kansas and Southeast Nebraska, Inc.
Louisiana | Inter-Tribal Council of Louisiana, Inc.
Maine | Penobscot Nation
Massachusetts | Mashpee-Wampanoag Indian Tribal Council, Inc.
Massachusetts | North American Indian Center of Boston, Inc.
Michigan | Grand Traverse Band of Ottawa and Chippewa Indians
Michigan | Inter-Tribal Council of Michigan, Inc.
Michigan | Michigan Indian Employment and Training Services, Inc.
Michigan | Pokagon Band of Potawatomi Indians
Michigan | Sault Ste. Marie Tribe of Chippewa Indians
Minnesota | American Indian Opportunities, Inc.
Minnesota* | Bois Forte Reservation Tribal Council
Minnesota | Fond Du Lac Reservation
Minnesota | Leech Lake Band of Ojibwe
Minnesota | Minneapolis American Indian Center
Mississippi | Mississippi Band of Choctaw Indians
Missouri | American Indian Council
Montana | Assiniboine and Sioux Tribes
Montana | B.C. of The Chippewa Cree Tribe
Montana | Blackfeet Tribal Business Council
Montana | Crow Tribe of Indians
Montana | Montana United Indian Association
Montana | Northern Cheyenne Tribe
Nebraska | Indian Center, Inc.
Nebraska* | Omaha Tribe of Nebraska
Nevada | Inter-Tribal Council of Nevada, Inc.
Nevada | Las Vegas Indian Center, Inc.
New Mexico | Alamo Navajo School Board
New Mexico | Eight Northern Indian Pueblo Council
New Mexico | Five Sandoval Indian Pueblos, Inc.
New Mexico | Jicarilla Apache Tribe
New Mexico | Mescalero Apache Tribe
New Mexico | National Indian Youth Council
New Mexico | Pueblo of Acoma
New Mexico | Pueblo of Isleta
New Mexico | Pueblo of Taos
New Mexico | Ramah Navajo School Board, Inc.
New Mexico | Santa Clara Indian Pueblo Tribal Government
New Mexico | Santo Domingo Tribe
New York | American Indian Community House, Inc.
New York | Native American Community Services of Erie and Niagara
New York | Native American Cultural Center, Inc.
New York | St. Regis Mohawk Tribe
North Carolina | Cumberland County Association for Indian People, Inc.
North Carolina | Eastern Band of Cherokee Indians
North Carolina | Guilford Native American Association
North Carolina | Haliwa-Saponi Tribe, Inc.
North Carolina | Lumbee Regional Development Association, Inc.
North Carolina | Metrolina Native American Association
North Carolina | North Carolina Commission on Indian Affairs
North Dakota | Standing Rock Sioux Tribe
North Dakota | Turtle Mountain Band of Chippewa Indians
North Dakota | United Tribes Technical College
Ohio | North American Indian Cultural Center, Inc.
Oklahoma | Absentee Shawnee Tribe
Oklahoma | Cheyenne Arapaho Tribes of Oklahoma
Oklahoma | Choctaw Nation of Oklahoma
Oklahoma* | Comanche Tribe of Oklahoma
Oklahoma | Creek Nation of Oklahoma
Oklahoma | Four Tribes Consortium of Oklahoma
Oklahoma | Inter-Tribal Council of Northeast Oklahoma
Oklahoma | Kiowa Tribe of Oklahoma
Oklahoma | Native American Resource Center, Inc.
Oklahoma | Otoe-Missouria Tribe
Oklahoma | Ponca Tribe of Oklahoma
Oklahoma | Seminole Nation of Oklahoma
Oklahoma | Tonkawa Tribe of Oklahoma
Oklahoma | United Urban Indian Council, Inc.
Oregon | Confederated Tribes of The Umatilla Indian Reservation
Oregon | Confederated Tribes of Warm Springs
Oregon | Organization of Forgotten Americans, Inc.
Pennsylvania | Council of Three Rivers American Indian Center, Inc.
Rhode Island | Rhode Island Indian Council, Inc.
South Carolina | South Carolina Indian Development Council, Inc.
South Dakota | Lower Brule Sioux Tribe
South Dakota* | Oglala Sioux Tribe
South Dakota | United Sioux Tribes of South Dakota Development
South Dakota* | Yankton Sioux Tribe
Texas | Alabama-Coushatta Indian Tribal Council
Texas | Dallas Inter-Tribal Center
Texas | Ysleta Del Sur Pueblo
Utah | Indian Training and Education Center
Utah | Ute Indian Tribe
Vermont | Abenaki Self-Help Association/N.H. Indian Council
Virginia | Mattaponi Pamunkey Monacan Consortium
Washington | American Indian Community Center
Washington | Confederated Tribes and Bands of the Yakama Nation
Washington | Lummi Indian Business Council
Washington | Makah Tribal Council
Washington | Puyallup Tribe of Indians
Washington | Seattle Indian Center, Inc.
Washington | The Tulalip Tribes
Washington | Western Washington Indian Employment and Training
Wisconsin | Lac Courte Oreilles Tribal Governing Board
Wisconsin | Lac Du Flambeau Band of Lake Superior Chippewa Indians, Inc.
Wisconsin | Spotted Eagle, Inc.
Wisconsin | Wisconsin Indian Consortium
Wyoming | Northern Arapahoe Business Council
Total Grantees Receiving Waivers: 136.
*Current grantees to receive conditional designation.

Attachment B.—Public Law 102-477 Grantees Receiving Waivers
State | Grantee name
Alaska | Aleutian-Pribilof Islands Assn., Inc.
Alaska | Association of Village Council Presidents
Alaska | Bristol Bay Native Association
Alaska | Central Council of Tlingit and Haida Indian Tribes
Alaska | Chugachmiut
Alaska | Cook Inlet Tribal Council, Inc.
Alaska | Copper River Native Association
Alaska | Kawerak Incorporated
Alaska | Kodiak Area Native Association
Alaska | Metlakatla Indian Community
Alaska | Orutsararmuit Native Council
Florida | Seminole Tribe of Florida
Idaho | Nez Perce Tribe
Idaho | Shoshone-Bannock Tribes, Inc.
Minnesota | Mille Lacs Band of Ojibwe Indians
Minnesota | Red Lake Tribal Council
Minnesota | White Earth Reservation Tribal Council
Montana | Confederated Salish & Kootenai Tribes
Montana | Fort Belknap Indian Community
Nebraska | Winnebago Tribe of Nebraska
Nevada | Reno Sparks Indian Colony
Nevada | Shoshone-Paiute Tribes
New Mexico | Pueblo of Laguna
New Mexico | Pueblo of Zuni
New York | Seneca Nation of Indians
North Dakota | Spirit Lake Sioux Tribe
North Dakota | Three Affiliated Tribes
Oklahoma | Cherokee Nation of Oklahoma
Oklahoma | Chickasaw Nation
Oklahoma | Citizens Potawatomi Nation
Oklahoma | Osage Nation
Oklahoma | Pawnee Nation of Oklahoma
Oregon | Confederated Tribes of Siletz Indians
South Dakota | Cheyenne River Sioux Tribe
South Dakota | Sicangu Nation (Rosebud Sioux Tribe)
South Dakota | Sisseton-Wahpeton Sioux Tribe
Washington | Confederated Tribes of the Colville Reservation
Wisconsin | Ho-Chunk Nation
Wisconsin | Menominee Indian Tribe of Wisconsin
Wisconsin | Stockbridge-Munsee Community
Wyoming | Eastern Shoshone Tribe
Total Public Law 102-477 Grantees Receiving Waivers: 41.

Attachment C.—Current Grantees Not Receiving Waivers and Associated Geographic Areas
| Unemployed | Poverty | Youth
State: Colorado
Grantee: Denver Indian Center, Inc.
Adams County | 135 | 390 | 90
Alamosa County | 25 | 55 | 4
Arapahoe County | 135 | 340 | 60
Baca County | 0 | 10 | 4
Bent County | 0 | 4 | 0
Boulder County | 40 | 385 | 105
Chaffee County | 0 | 15 | 0
Cheyenne County | 0 | 4 | 4
Clear Creek County | 0 | 15 | 4
Conejos County | 4 | 115 | 15
Costilla County | 20 | 35 | 4
Crowley County | 4 | 25 | 4
Custer County | 4 | 20 | 4
Delta County | 0 | 10 | 0
Denver County | 475 | 1955 | 370
Dolores County | 4 | 20 | 4
Douglas County | 20 | 30 | 4
Eagle County | 0 | 10 | 0
El Paso County | 170 | 590 | 85
Elbert County | 4 | 10 | 0
Fremont County | 15 | 70 | 10
Garfield County | 10 | 60 | 10
Gilpin County | 0 | 0 | 0
Grand County | 0 | 4 | 0
Gunnison County | 0 | 10 | 0
Hinsdale County | 0 | 4 | 0
Huerfano County | 20 | 95 | 20
Jackson County | 0 | 0 | 0
Jefferson County | 135 | 550 | 120
Kiowa County | 4 | 4 | 0
Kit Carson County | 4 | 4 | 0
Lake County | 4 | 0 | 0
Larimer County | 95 | 335 | 165
Las Animas County | 10 | 185 | 10
Lincoln County | 0 | 4 | 0
Logan County | 15 | 10 | 0
Mesa County | 25 | 280 | 90
Morgan County | 20 | 25 | 10
Otero County | 15 | 95 | 10
Ouray County | 0 | 10 | 0
Park County | 4 | 20 | 0
Phillips County | 0 | 4 | 0
Pitkin County | 4 | 4 | 0
Prowers County | 0 | 25 | 4
Pueblo County | 100 | 520 | 60
Rio Blanco County | 4 | 10 | 0
Rio Grande County | 0 | 30 | 20
Routt County | 0 | 4 | 0
Saguache County | 4 | 25 | 4
San Juan County | 0 | 4 | 4
San Miguel County | 10 | 4 | 0
Sedgwick County | 0 | 0 | 0
Summit County | 0 | 0 | 0
Teller County | 10 | 0 | 0
Washington County | 4 | 4 | 0
Weld County | 80 | 240 | 50
Yuma County | 0 | 0 | 0
PY 2006 Adult Funding Estimate: $605,530.
PY 2007 Adult Funding Estimate: $609,946.
No Youth Funding.
State: Kansas
Grantee: Mid-American All Indian Center, Inc.
Barber County | 4 | 10 | 10
Barton County | 20 | 45 | 10
Butler County | 4 | 90 | 0
Chase County | 0 | 0 | 0
Chautauqua County | 4 | 30 | 10
Cowley County | 30 | 125 | 20
Elk County | 0 | 10 | 0
Ellsworth County | 0 | 0 | 0
Greenwood County | 0 | 15 | 0
Harper County | 0 | 0 | 0
Harvey County | 4 | 4 | 0
Kingman County | 0 | 0 | 0
Lyon County | 10 | 45 | 0
Marion County | 4 | 4 | 0
McPherson County | 0 | 4 | 0
Pratt County | 0 | 0 | 0
Reno County | 4 | 55 | 0
Rice County | 4 | 15 | 10
Saline County | 4 | 35 | 15
Sedgwick County | 205 | 830 | 125
Stafford County | 0 | 4 | 0
Sumner County | 10 | 35 | 4
PY 2006 Adult Funding Estimate: $121,690.
PY 2007 Adult Funding Estimate: $118,558.
No Youth Funding.
State: Michigan
Grantee: North American Indian Association of Detroit, Inc.
Wayne County | 365 | 1515 | 145
PY 2006 Adult Funding Estimate: $198,849.
PY 2007 Adult Funding Estimate: $178,964.
No Youth Funding.
State: Michigan
Grantee: Southeastern Michigan Indians, Inc.
Macomb County | 75 | 265 | 40
Oakland County | 105 | 375 | 65
St. Clair County | 55 | 80 | 15
PY 2006 Adult Funding Estimate: $98,517.
PY 2007 Adult Funding Estimate: $88,665.
No Youth Funding.
State: New Jersey
Grantee: Powhatan Renape Nation
Atlantic County | 30 | 45 | 4
Bergen County | 60 | 155 | 10
Burlington County | 40 | 140 | 4
Camden County | 20 | 305 | 55
Cape May County | 0 | 4 | 0
Cumberland County | 40 | 170 | 25
Essex County | 70 | 325 | 20
Gloucester County | 40 | 70 | 10
Hudson County | 190 | 310 | 45
Hunterdon County | 0 | 0 | 0
Mercer County | 40 | 115 | 10
Middlesex County | 70 | 225 | 35
Monmouth County | 20 | 85 | 25
Morris County | 45 | 25 | 0
Ocean County | 70 | 180 | 30
Passaic County | 60 | 325 | 30
Salem County | 15 | 60 | 15
Somerset County | 30 | 135 | 0
Sussex County | 4 | 10 | 0
Union County | 35 | 225 | 50
Warren County | 15 | 0 | 0
PY 2006 Adult Funding Estimate: $281,343.
PY 2007 Adult Funding Estimate: $283,827.
No Youth Funding.
State: Oklahoma
Grantee: Wyandotte Nation
Kansas:
Cherokee County | 700 | 35 | 205
Crawford County | 355 | 41 | 45
Missouri:
Barry County | 260 | 10 | 135
Barton County | 75 | 4 | 4
Dade County | 50 | 0 | 4
Jasper County | 1,420 | 70 | 365
Lawrence County | 250 | 4 | 55
McDonald County | 580 | 20 | 140
Newton County | 1,155 | 45 | 320
Native Hawaiian Imputation | 34 | 1 | 5
PY 2006 Adult Funding Estimate: $106,174.
PY 2007 Adult Funding Estimate: $106,763.
No Youth Funding.
State: Wisconsin
Grantee: Oneida Tribe of Indians of Wisconsin, Inc.
Brown County | 320 | 960 | 145
Calumet County | 15 | 30 | 4
Door County | 10 | 25 | 0
Kewaunee County | 0 | 4 | 0
Manitowoc County | 35 | 140 | 20
Outagamie County | 65 | 370 | 85
Sheboygan County | 10 | 125 | 10
Winnebago County | 40 | 115 | 0
PY 2006 Adult Funding Estimate: $162,950.
PY 2007 Adult Funding Estimate: $162,950.
PY 2006 Youth Funding Estimate: $26,178.
PY 2007 Youth Funding Estimate: $18,325.
Total Current Grantees Not Receiving Waivers: 7.

[FR Doc. 06-1251 Filed 2-10-06; 8:45 am]

BILLING CODE 4510-30-P